SMALL BUSINESS ADMINISTRATION

[Disaster Declaration # 20320 and # 20321; TEXAS Disaster Number TX-20010]

Presidential Declaration Amendment of a Major Disaster for the State of TEXAS

AGENCY: Small Business Administration.

ACTION: Amendment 1.

SUMMARY: This is an amendment of the Presidential declaration of a major disaster for the State of TEXAS (FEMA—4781-DR), dated 05/17/2024.

Incident: Severe Storms, Straight-line Winds, Tornadoes, and Flooding.

Incident Period: 04/26/2024 and continuing.

DATES: Issued on 05/21/2024.

Physical Loan Application Deadline Date: 07/16/2024.

Economic Injury (EIDL) Loan Application Deadline Date: 02/18/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of TEXAS, dated 05/17/2024, is hereby amended to include the following areas as adversely affected by the disaster:

Primary Counties (Physical Damage and Economic Injury Loans): Eastland, Hardin, Jasper, Jones, Lamar, Waller.

Contiguous Counties (Economic Injury Loans Only):

Texas: Austin, Brown, Callahan, Comanche, Delta, Erath, Fannin, Fisher, Franklin, Haskell, Newton, Nolan, Orange, Palo Pinto, Red River, Sabine, San Augustine, Shackelford, Stephens, Stonewall, Taylor, Washington

Oklahoma: Bryan, Choctaw

All other information in the original declaration remains unchanged.

(Catalog of Federal Domestic Assistance Number 59008)

Francisco Sánchez, Jr.,
Associate Administrator, Office of Disaster Recovery & Resilience.

[FR Doc. 2024-11689 Filed 5-28-24; 8:45 am]

BILLING CODE 8026-09-P